DEPARTMENT OF THE INTERIOR

Fish and Wildlife Service

Notice of Availability of a Draft Recovery Plan for the Virginia Sneezeweed for Review and Comment

AGENCY: Fish and Wildlife Service, Interior.

ACTION: Notice of document availability.

SUMMARY: The U.S. Fish and Wildlife Service announces the availability for public review of a draft Recovery Plan for the Virginia sneezeweed (Helenium virginicum).

The Virginia sneezeweed is a rare herb in the Asteraceae family found in the Shenandoah Valley of western Virginia, with a single possible disjunct population in southern Missouri. The species was listed as threatened in December 1998 due to its restricted range, small number of occurrences, and growing threats from loss and degradation of its sinkhole pond habitat. The objective of the proposed Recovery Plan is to protect Heleniuim virginicum populations and their habitat, thereby enabling the species' removal from the Federal list of endangered and threatened wildlife and plants. To accomplish this, the draft Plan recommends protection and management of extant populations, definitively establishing the distribution of the plant, and strategies for maintaining the genetic diversity of the species. If the Recovery Plan is successfully implemented, full recovery may be possible by 2020. The Service solicits review and comment from the public on this draft Plan.

DATES: Comments on the draft Recovery Plan must be received by November 16, 2000, to receive consideration by the Service.

ADDRESSES: Persons wishing to review the draft Recovery Plan can obtain a copy from the U.S. Fish and Wildlife Service, Chesapeake Bay Field Office, 177 Admiral Cochrane Drive, Annapolis, Maryland 21401, telephone 410/573-4537 and fax 410/269-0832. Comments should be sent to the same address, to the attention of G. Andrew Moser.

FOR FURTHER INFORMATION CONTACT: G. Andrew Moser at 410/573-4537 (see ADDRESSES).

SUPPLEMENTARY INFORMATION:

Background

Restoring an endangered or threatened animal or plant to the point where it is again a secure, self-sustaining member of its ecosystem is a primary goal of the U.S. Fish and Wildlife Service's endangered species program. To help guide the recovery effort, the Service is working to prepare Recovery Plans for most of the listed species native to the United States. Recovery Plans describe actions considered necessary for conservation of the species, establish criteria for downlisting or delisting them, and estimate time and cost for implementing the recovery measures needed.

The Endangered Species Act of 1973 (Act), as amended (16 U.S.C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The document submitted for review is the draft Virginia Sneezeweed (Helenium virginicum) Recovery Plan. The Virginia sneezeweed, a rare herb in the Asteraceae family, has been found in 30 sites in the Shenandoah Valley of western Virginia, although plants have not been seen at 4 of these sites for several years. Recent studies of a Helenium sp. from a sinkhole pond in southern Missouri suggest that it may represent a disjunct population of H. virginicum, but further research is needed to resolve this. The Virginia sneezeweed is limited to seasonally flooded sinkhole ponds, a restricted and threatened habitat type that is in some cases closely associated with agricultural and residential land uses. In addition, there is some indication that the species may have a self-incompatible breeding system, which could increase the threat of local extinctions in small populations. For these reasons, H. virginicum was listed as a threatened species in December 1998.

The objective of the draft Recovery Plan is to protect Helenium virginicum populations and their habitat, thereby enabling the species' removal from the Federal list of endangered and threatened wildlife and plants. Delisting of H. virginicum may be considered when: (1) 20 self-sustaining populations and their habitats have received permanent protection across the species' Virginia range; (2) monitoring over 15 years indicates that populations in the 20 sites are viable; (3) life history and ecological requirements are understood sufficiently to allow for effective protection monitoring, and, as needed, management; (4) seeds representing the range of genetic diversity in H. virginicum are placed in long-term storage to provide a source of genetic material in the event of in situ extinction; and (5) if determined to be H. virginicum, the Missouri population and its habitat are permanently protected and seeds placed in long-term storage.

Recovery activities designed to achieve these objectives include protection, management, and monitoring of extant populations and their habitat; definitive identification of the range and distribution of the species; continuing investigations into the life history and ecology of H. virginicum; maintenance of seed sources for the species; and development of informational materials to create more awareness of H. virginicum and its status. Contingent on successful implementation of all recovery tasks, full recovery is anticipated by the year 2020.

The draft Recovery Plan is being submitted for technical and agency review. After consideration of comments received during the review period, the Plan will be submitted for final approval.

Public Comments Solicited

The Service solicits written comments on the Recovery Plan described. All comments received by the date specified above will be considered prior to approval of the Plan.

Authority: The authority for this action is Section 4(f) of the Endangered Species Act, 16 U.S.C. 1533(f).

Dated: September 21, 2000.
J. Mitch King,
Acting Regional Director.

[FR Doc. 00-25107 Filed 9-29-00; 8:45 am]

BILLING CODE 4310-55-M